DEPARTMENT OF ENERGY

10 CFR Part 431

[Docket No. EERE-2013-BT-STD-0040]

RIN 1904-AC83

Energy Efficiency Program for Consumer Products: Energy Conservation Standards for Commercial and Industrial Air Compressors

AGENCY: Office of Energy Efficiency and Renewable Energy, Department of Energy.

ACTION: Notice of public meeting and availability of the Framework Document.

SUMMARY: The U.S. Department of Energy (DOE) is considering establishing energy conservation standards for commercial and industrial air compressors. As part of this effort, DOE is soliciting comment and data from the public on a variety of issues related to the setting of standards for this equipment. To inform interested parties and to facilitate this process, DOE has prepared a Framework Document that details the analytical approach and scope of coverage DOE is considering for this effort. The Framework Document describes the analytical approach that DOE plans to use and identifies a number of issues on which DOE seeks comment. DOE will hold a public meeting to discuss and receive comments on its planned analytical approach and the issues it plans to address. DOE seeks written comments and relevant data from the public on any subject within the scope of this rulemaking effort. A copy of the Framework Document is available at: http://www1.eere.energy.gov/buildings/appliance_standards/rulemaking.aspx/ruleid/58.

DATES: Meeting: DOE will hold a public meeting on Monday, March 3, 2014, from 9:00 a.m. to 3:30 p.m. in Washington, DC. In addition, DOE plans to broadcast the public meeting via webinar. You may attend the public meeting either in person or via webinar. Registration information, participant instructions, and also information about the capabilities available to webinar participants will be published in advance on DOE's Web site at: http://www1.eere.energy.gov/buildings/appliance_standards/rulemaking.aspx/ruleid/58. Webinar participants are responsible for ensuring their systems are compatible with the webinar software.

Any person requesting to present an oral statement for the record must (1) notify DOE prior to 4:00 p.m., Monday, February 17, 2014; and (2) provide to DOE an electronic copy of the statement with the presenter's name and, if appropriate, the organization the presenter represents, prior to 4:00 p.m., Monday, February 24, 2014.

Comments: DOE will accept written comments, data, and other related information about the Framework Document before and after the public meeting, but not later than March 24, 2014.

ADDRESSES: Meeting: The public meeting will be held at the U.S. Department of Energy, Forrestal Building, Room 8E-089, 1000 Independence Avenue SW., Washington, DC 20585-0121.

Please note that any foreign national planning to participate in the public meeting is subject to advance security screening procedures, and should so inform DOE of this fact as soon as possible by contacting Ms. Brenda Edwards at (202) 586-2945. Please note further that any visitor with a personal computer who enters the Forrestal Building is required to be screened and to obtain a property pass upon entry. Such visitors should allow 45 minutes for the screening process. As noted above, persons may also attend the public meeting via webinar. See “Public Participation” in SUPPLEMENTARY INFORMATION below for additional meeting details.

Comments: Interested parties are encouraged to submit comments electronically. However, comments may be submitted by any of the following methods:

• Federal eRulemaking Portal: www.regulations.gov. Follow the instructions for submitting comments.

• Email: Compressors2013STD0040@ee.doe.gov. Include docket number EERE-2013-BT-STD-0040 and/or regulation identifier number (RIN) 1904-AC83 in the subject line of the message. All comments should clearly identify the name, address, and, if appropriate, organization of the commenter. Submit electronic comments either in WordPerfect, Microsoft Word, portable document format (PDF), or American Standard Code for Information Interchange (ASCII) file format, and avoid the use of special characters or any form of encryption.

• Postal Mail: Ms. Brenda Edwards, U.S. Department of Energy, Building Technologies Office, Mailstop EE-5B, Framework Document for Commercial and Industrial Air Compressors, Docket No. EERE-2013-BT-STD-0040 and/or RIN 1904-AC83, 1000 Independence Avenue SW., Washington, DC 20585-0121. If possible, please submit all items on a compact disc (CD), in which case it is not necessary to include printed copies. [Please note that comments sent by mail are often delayed and may be damaged by mail screening processes.]

• Hand Delivery/Courier: Ms. Brenda Edwards, U.S. Department of Energy, Building Technologies Office, Sixth Floor, 950 L'Enfant Plaza SW., Washington, DC 20024. Telephone: (202) 586-2945. If possible, please submit all items on a CD, in which case it is not necessary to include printed copies.

Instructions: All submissions received must include the agency name and docket number and/or RIN for this rulemaking. No telefacsimilies (faxes) will be accepted.

Docket: The docket is available for review at http://www.regulations.gov, and will include Federal Register notices, framework document, public meeting attendee lists and transcripts, comments, and other supporting documents/materials throughout the rulemaking process. The regulations.gov Web page contains simple instructions on how to access all documents, including public comments, in the docket. The docket can be accessed by searching for docket number EERE-2013-BT-STD-0040 on the regulations.gov Web site. All documents in the docket are listed in the www.regulations.gov index. However, not all documents listed in the index may be publicly available, such as information that is exempt from public disclosure.

For information on how to submit a comment, review other public comments and the docket, or participate in the public meeting, contact Ms. Brenda Edwards at (202) 586-2945 or by email: Brenda.Edwards@ee.doe.gov.

FOR FURTHER INFORMATION CONTACT: James Raba, U.S. Department of Energy, Office of Energy Efficiency and Renewable Energy, Building Technologies Office, EE-5B, 1000 Independence Avenue SW., Washington, DC 20585-0121. Telephone: (202) 586-8654. Email: compressors@ee.doe.gov.

Michael Kido, U.S. Department of Energy, Office of the General Counsel, GC-71, 1000 Independence Avenue SW., Washington, DC 20585-0121. Telephone: (202) 586-8145. Email: michael.kido@hq.doe.gov.

For information on how to submit or review public comments and on how to participate in the public meeting, contact Ms. Brenda Edwards, U.S. Department of Energy, Office of Energy Efficiency and Renewable Energy, Building Technologies Office, EE-5B, 1000 Independence Avenue SW., Washington, DC, 20585-0121. Telephone (202) 586-2945. Email: Brenda.Edwards@ee.doe.gov.

SUPPLEMENTARY INFORMATION: Title III of the Energy Policy and Conservation Act, 42 U.S.C. 6291, et seq., (EPCA) sets forth a variety of provisions designed to improve the energy efficiency of products and commercial equipment. (All references to EPCA refer to the statute as amended through the American Energy Manufacturing Technical Corrections Act (AEMTCA 2012), Pub. L. 112-210 (December 18, 2012)). Part C of Title III (42 U.S.C. 6311-6317), which was subsequently redesignated as Part A-1 for editorial reasons, establishes an energy conservation program for certain industrial equipment, which includes compressors, the subject of today's notice. (42 U.S.C. 6311(2)(B)(i))

Section 341 of EPCA, 42 U.S.C. 6312, provides a general statement of purpose to improve the efficiency of electric motors and pumps and certain other industrial equipment to conserve the energy resources of the Nation. Accordingly, section 341 further provides that the Secretary of Energy may, by rule, classify certain equipment as covered equipment if he determines that to do so is necessary to carry out the purposes of Part A-1 of EPCA. In considering whether to establish energy conservation standards for commercial air compressors, DOE issued a Proposed Determination of Coverage and has proposed to determine that commercial and industrial air compressors are covered equipment (77 FR 76972 (December 31, 2012)). DOE received comments from interested parties, which are available in docket number EERE-2013-BT-STD-0040, and have been considered in developing this Framework Document.¹ Also see http://www1.eere.energy.gov/buildings/appliance_standards/rulemaking.aspx/ruleid/58.

¹ http://www.regulations.gov/#!docketDetail;D=EERE-2013-BT-STD-0040.

DOE has prepared the Framework Document to explain the relevant issues, analyses, and processes it anticipates using when considering new energy conservation standards for commercial and industrial air compressors. The focus of the public meeting noted above will be to discuss the information presented and issues identified in the Framework Document. At the public meeting, DOE will make presentations and invite discussion on the process as it applies to commercial and industrial air compressors. DOE will also solicit comments, data, and information from participants and other interested parties.

DOE is planning to conduct in-depth technical analyses in the following areas: (1) Engineering; (2) energy use; (3) equipment price; (4) life-cycle cost and payback period; (5) national impacts; (6) manufacturer impacts; (7) emission impacts; (8) utility impacts; (9) employment impacts; and (10) regulatory impacts. DOE will also conduct several other analyses that support those previously listed, including the market and technology assessment, the screening analysis (which contributes to the engineering analysis), and the shipments analysis (which contributes to the national impact analysis).

Public Partiticaption: DOE encourages those who wish to participate in the public meeting to obtain the Framework Document and to be prepared to discuss its contents. A copy of the Framework Document is available at: http://www1.eere.energy.gov/buildings/appliance_standards/rulemaking.aspx/ruleid/58.

Public meeting participants need not limit their comments to the issues identified in the Framework Document. DOE is also interested in comments on other relevant issues that participants believe would affect energy conservation standards for these products, applicable test procedures, or the preliminary determination on the scope of coverage. DOE invites all interested parties, whether or not they participate in the public meeting, to submit in writing by March 24, 2014, comments and information on matters addressed in the Framework Document and on other matters relevant to DOE's consideration of coverage of and standards for commercial and industrial air compressors.

The public meeting will be conducted in an informal, facilitated, conference style. There shall be no discussion of proprietary information, costs or prices, market shares, or other commercial matters regulated by U.S. antitrust laws. A court reporter will record the proceedings of the public meeting, after which a transcript will be available for purchase from the court reporter and placed on the DOE Web site at: http://www1.eere.energy.gov/buildings/appliance_standards/rulemaking.aspx/ruleid/58.

After the public meeting and the close of the comment period on the Framework Document, DOE will collect data, conduct the analyses as discussed in the Framework Document and at the public meeting, and review the public comments it receives.

DOE considers public participation to be a very important part of the process for determining whether to establish energy conservation standards and, if so, in setting those new standards. DOE actively encourages the participation and interaction of the public during the comment period at each stage of its process. Beginning with the Framework Document, and during each subsequent public meeting and comment period, interactions with and among members of the public provide a balanced discussion of the issues to assist DOE in its efforts to ascertain whether to set standards for commercial and industrial air compressors. Accordingly, anyone who wishes to participate in the public meeting, receive meeting materials, or be added to the DOE mailing list to receive future notices and information about this effort should contact Ms. Brenda Edwards at (202) 586-2945, or via email at Brenda.Edwards@ee.doe.gov.

Issued in Washington, DC, on January 24, 2014.
Kathleen B. Hogan,
Deputy Assistant Secretary for Energy Efficiency, Energy Efficiency and Renewable Energy.

[FR Doc. 2014-02403 Filed 2-4-14; 8:45 am]

BILLING CODE 6450-01-P